DEPARTMENT OF LABOR

Office of the Secretary

Submission for OMB Review; Comment Request

May 30, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by contacting the Department of Labor. To obtain documentation contact Darris King at (202) 693-4129 or E-Mail King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment and Training Administration (ETA).

Title: NAFTA Customer Survey Data Request.

OMB Number: 1205-0337.

Affected Public: Business or other for-profit.

Frequency: On occasion.

Number of Respondents: 1,050.

Number of Annual Responses: 1,050.

Estimated Time Per Response: 2 hours.

Total Burden Hours: 2,100.

Total Annualized Capital/Startup Costs: $0.

Total Annual Costs (operating/maintaining systems or purchasing services): $0.

Description: The information collected on the form ETA-9044 is required for the Secretary of Labor to make determinations of eligibility for petitioning workers to apply for transition adjustment assistance in accordance with Subchapter D of the North American Free Trade Agreement Implementation Act amending the Trade Act of 1974.

Type of Review: Extension of a currently approved collection.

Agency: Employment and Training Administration (ETA).

Title: NAFTA Confidential Data Request.

OMB Number: 1205-0339.

Affected Public: Business or other for-profit.

Frequency: On occasion.

Number of Respondents: 1,000.

Number of Annual Responses: 1,000.

Estimated Time Per Response: 3 hours to complete the form ETA 9043 and 4.5 hours for Governors to conduct a State review.

Total Burden Hours: 7,500.

Total Annualized Capital/Startup Costs: $0.

Total Annual Costs (operating/maintaining systems or purchasing services): $0.

Description: Subchapter D of the North American Free Trade Agreement Implementation Act amends the Trade Act of 1974 by requiring business confidential data in order to make timely determination as to whether imports have contributed to worker separations. The form ETA 9043 is used by workers to apply for NAFTA Adjustment Assistance.

Darrin A. King,
Acting Departmental Clearance Officer.

[FR Doc. 01-14426 Filed 6-7-01; 8:45 am]

BILLING CODE 4510-30-M